COMMITTEE FOR PURCHASE FROM PEOPLE WHO ARE BLIND OR SEVERELY DISABLED

Procurement List Additions and Deletions

AGENCY: Committee for Purchase From People Who Are Blind or Severely Disabled.

ACTION: Additions to and deletions from the Procurement List.

SUMMARY: This action adds to the Procurement List a product and a service to be furnished by nonprofit agencies employing persons who are blind or have other severe disabilities, and deletes from the Procurement List services previously furnished by such agencies.

DATES: Effective Date: April 19, 2010.

ADDRESSES: Committee for Purchase From People Who Are Blind or Severely Disabled, Jefferson Plaza 2, Suite 10800, 1421 Jefferson Davis Highway, Arlington, Virginia 22202-3259.

FOR FURTHER INFORMATION CONTACT: Patricia Briscoe, Telephone: (703) 603-7740, Fax: (703) 603-0655, or email CMTEFedReg@AbilityOne.gov.

SUPPLEMENTARY INFORMATION:

Additions

On 1/11/2010 (75 FR 1354-1355) and 1/15/2010 (75 FR 2510), the Committee for Purchase From People Who Are Blind or Severely Disabled published notices of proposed additions to the Procurement List.

After consideration of the material presented to it concerning capability of qualified nonprofit agencies to furnish the product and service and impact of the additions on the current or most recent contractors, the Committee has determined that the product and service listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the product and service to the Government.

2. The action will result in authorizing small entities to furnish the product and service to the Government.

3. There are no known regulatory alternatives which would accomplish the objectives of the Javits-Wagner-O'Day Act (41 U.S.C. 46-48c) in connection with the product and service proposed for addition to the Procurement List.

End of Certification

Accordingly, the following product and service are added to the Procurement List:

Product

NSN: 8540-00-266-9898—Paper, Doily.

NPA: L.C. Industries for the Blind, Inc., Durham, NC.

Contracting Activity: Federal Acquisition Service, GSA/FSS OFC SUP CTR—Paper Products, New York, NY.

Coverage: B-List for the broad government requirement as aggregated by the General Services Administration.

Service

Service Type/Location: Custodial and Grounds Maintenance Services, Federal Building & U.S. Courthouse, 100 N. Church St., Las Cruces, NM.

NPA: Tresco, Inc., Las Cruces, NM.

Contracting Activity: GSA Public Buildings Service, PBS OK/NM Section, Albuquerque, NM.

Deletions

On 1/11/2010 (75 FR 1354-1355), the Committee for Purchase From People Who Are Blind or Severely Disabled published notice of proposed deletions from the Procurement List.

After consideration of the relevant matter presented, the Committee has determined that the services listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to provide the services to the Government.

3. There are no known regulatory alternatives which would accomplish the objectives of the Javits-Wagner-O'Day Act (41 U.S.C. 46-48c) in connection with the services deleted from the Procurement List.

End of Certification

Accordingly, the following services are deleted from the Procurement List:

Services

Service Type/Location: Grounds Maintenance, Federal Aviation Administration, 1100 South Service Road, Airway Facilities Sector, Atlanta, GA.

NPA: WORKTEC, Jonesboro, GA.

Contracting Activity: Dept of Trans, Federal Aviation Administration, College Park, GA.

Service Type/Location: Food Service Attendant, Jacksonville Air National Guard, 14300 Fang Drive, Jacksonville, FL.

NPA: GINFL Services, Inc., Jacksonville, FL.

Contracting Activity: Dept of the Army, XRA W7M2 USPFO Activity FL ARNG, ST Augustine, FL.

Service Type/Location: Disposal Support Services, Eglin Air Force Base, East of Memorial Trail (excluding the airfield), Eglin, FL.

NPA: Lakeview Center, Inc., Pensacola, FL.

Contracting Activity: Defense Logistics Agency, DLA Support Services—DSS, Fort Belvoir, VA.

Patricia Briscoe,
Deputy Director, Business Operations.

[FR Doc. 2010-6021 Filed 3-18-10; 8:45 am]

BILLING CODE 6353-01-P